DEPARTMENT OF TRANSPORTATION

Office of the Secretary

Aviation Proceedings, Agreements Filed Between the Week of January 19 and January 30, 2004

The following Agreements were filed with the Department of Transportation under the provisions of 49 U.S.C. 412 and 414. Answers may be filed within 21 days after the filing of the application.

Agreements filed during the week ending January 23, 2004.

Docket Number: OST-2004-16940.

Date Filed: January 20, 2004.

Parties: Members of the International Air Transport Association.

Subject: MV/PSC/005 dated January 15, 2004, Mail Vote Number S 077—Amended Version, Recommended Practice 1720a (R-1), Request for Form Code for Travel Agent Service Fee (TASF), Intended effective date: February 1, 2004.

Agreements filed during the week ending January 30, 2004.

Docket Number: OST-2004-17001.

Date Filed: January 30, 2004.

Parties: Members of the International Air Transport Association.

Subject: PTC12 USA-EUR Fares 0086 dated January 30, 2004, Resolution 015h USA Add-Ons between USA and UK, Intended effective date: April 1, 2004.

Andrea M. Jenkins,
Program Manager, Docket Operations, Federal Register Liaison.

[FR Doc. 04-2997 Filed 2-10-04; 8:45 am]

BILLING CODE 4910-62-P